DEPARTMENT OF COMMERCE

International Trade Administration

[C-552-813]

Certain Steel Wire Garment Hangers From the Socialist Republic of Vietnam: Countervailing Duty Order

AGENCY: Import Administration, International Trade Administration, Department of Commerce.

SUMMARY: Based on affirmative final determinations by the Department of Commerce (the Department) and the U.S. International Trade Commission (ITC), the Department is issuing a countervailing duty order on certain steel wire garment hangers from the Socialist Republic of Vietnam (Vietnam).

DATES: Effective Date: February 5, 2013.

FOR FURTHER INFORMATION CONTACT: John Conniff or Robert Copyak, AD/CVD Operations, Office 8, Import Administration, U.S. Department of Commerce, Room C-100, 14th Street and Constitution Avenue NW., Washington, DC 20230; telephone: 202-482-1009 and 202-482-2209, respectively.

SUPPLEMENTARY INFORMATION:

Case History

In accordance with section 705(d) of the Tariff Act of 1930, as amended (the Act), on December 26, 2012, the Department published its final determination in the countervailing duty investigation of certain steel wire garment hangers from Vietnam.¹ On January 28, 2013, the ITC notified the Department of its final determination pursuant to sections 705(b)(1)(A)(ii) and 705(d) of the Act, that a U.S. industry is materially injured by reason of imports of steel wire garment hangers from Vietnam.² In addition, the ITC notified the Department of its final determination that critical circumstances do not exist with respect to imports of steel wire garment hangers from Vietnam that are subject to the Department's final affirmative critical circumstances finding. Pursuant to section 706(a) of the Act, the Department is publishing a countervailing duty order on the subject merchandise.

¹ See Certain Steel Wire Garment Hangers From the Socialist Republic of Vietnam: Final Affirmative Countervailing Duty Determination and Final Affirmative Critical Circumstances Determination, 77 FR 75973, (December 26, 2012).

² See Steel Wire Garment Hangers from Vietnam (Investigation Nos. 701-TA-487 and 731-TA-1198 (Final), USITC Publication 4371, January 2013).

Scope of the Order

The merchandise subject to this order is steel wire garment hangers, fabricated from carbon steel wire, whether or not galvanized or painted, whether or not coated with latex or epoxy or similar gripping materials, and/or whether or not fashioned with paper covers or capes (with or without printing) and/or nonslip features such as saddles or tubes. These products may also be referred to by a commercial designation, such as shirt, suit, strut, caped, or latex (industrial) hangers.

Specifically excluded from the scope are (a) Wooden, plastic, and other garment hangers that are not made of steel wire; (b) steel wire garment hangers with swivel hooks; (c) steel wire garment hangers with clips permanently affixed; and (d) chrome-plated steel wire garment hangers with a diameter of 3.4mm or greater.

The products subject to the order are currently classified under U.S. Harmonized Tariff Schedule (HTSUS) subheadings 7326.20.0020 and 7323.99.9080. Although the HTSUS subheadings are provided for convenience and customs purposes, the written description of the merchandise is dispositive.

Countervailing Duty Order

On January 28, 2013, the ITC notified the Department of its final determination, pursuant to section 705(b)(1)(A) of the Act, that an industry in the United States is materially injured as a result of subsidized imports from Vietnam. Pursuant to section 706(a) of the Act, the Department is publishing a countervailing duty order on the subject merchandise.

As a result of the ITC's final determination, in accordance with section 706(a) of the Act, the Department will direct CBP to assess, upon further instruction by the Department, countervailing duties on unliquidated entries of certain steel wire garment hangers from Vietnam entered, or withdrawn from warehouse, for consumption on or after June 4, 2012, the date on which the Department published its preliminary countervailing duty determination in the Federal Register, and before October 2, 2012, the date on which the Department instructed CBP to discontinue the suspension of liquidation in accordance with section 703(d) of the Act. Section 703(d) of the Act states that the suspension of liquidation pursuant to a preliminary determination may not remain in effect for more than four months. Entries of certain steel wire garment hangers from Vietnam made on or after October 2, 2012, and prior to the date of publication of the ITC's final determination in the Federal Register are not liable for the assessment of countervailing duties, due to the Department's discontinuation, effective October 2, 2012, of the suspension of liquidation.

In accordance with section 706 of the Act, the Department will direct CBP to reinstitute the suspension of certain steel wire garment hangers from Vietnam, effective the date of publication of the ITC's notice of final determination in the Federal Register, and to assess, upon further advice from the Department pursuant to section 706(a)(1) of the Act, countervailing duties for each entry of the subject merchandise in an amount based on the net countervailable subsidy rates for the subject merchandise. On or after the date of publication of the ITC's final injury determination in the Federal Register, CBP must require, at the same time as importers would normally deposit estimated duties on this merchandise, a cash deposit equal to the rates noted below:

Producer/exporter | Net subsidy ad valorem rate (percent)
South East Asia Hamico Export Joint Stock Company (SEA Hamico), Nam A Hamico Export Joint Stock Company (Nam A), and Linh Sa Hamico Company Limited (Linh Sa) (collectively, the Hamico Companies) | 31.58
Infinite Industrial Hanger Limited (Infinite) and Supreme Hanger Company Limited (Supreme) (collectively, the Infinite Companies) | 90.42
All Others | 31.58

With regard to the ITC's negative critical circumstances determination on imports of steel wire garment hangers from Vietnam, we will instruct CBP to lift suspension and to refund any cash deposit made, to secure the payment of estimated countervailing duties with respect to entries of the merchandise entered, or withdrawn from warehouse, for consumption on or after March 6, 2012 (i.e., 90 days prior to the publication date of the Preliminary Determination), but before June 4, 2012, the publication date of the Preliminary Determination.

This notice constitutes the countervailing duty order with respect to steel wire garment hangers from Vietnam pursuant to section 706(a) of the Act. Interested parties may contact the Department's Central Records Unit, Room 7046 of the main Commerce building, for copies of an updated list of countervailing duty orders currently in effect.

This countervailing duty order is issued and published in accordance with sections 705(c)(2) and 706(a) of the Act, and 19 CFR 351.211.

Paul Piquado,
Assistant Secretary for Import Administration.

[FR Doc. 2013-02635 Filed 2-4-13; 8:45 am]

BILLING CODE 3510-DS-P